DEPARTMENT OF LABOR

Employment and Training Administration

[TA-W-73,303]

Weyerhaeuser Company Corporate Headquarters Including On-Site Leased Workers From Volt Services, Adecco, Manpower and Express Personnel Federal Way, Washington; Amended Certification Regarding Eligibility To Apply for Worker Adjustment Assistance

In accordance with Section 223 of the Trade Act of 1974, as amended (“Act”), 19 U.S.C. 2273, the Department of Labor issued a Certification of Eligibility to Apply for Worker Adjustment Assistance on June 2, 2010, applicable to workers of Weyerhaeuser Company, Corporate Headquarters, including on-site leased workers from Volt Services, Adecco, and Manpower, Federal Way, Washington. The notice was published in the Federal Register on June 16, 2010 (75 FR 34177).

At the request of the State agency, the Department reviewed the certification for workers of the subject firm. The workers supply corporate and administrative services for the firm.

The company reports that workers leased from Express Personnel were employed on-site at the Federal Way, Washington location of Weyerhaeuser Company, Corporate Headquarters. The Department has determined that these workers were sufficiently under the control of Weyerhaeuser Company, Corporate Headquarters to be considered leased workers.

Based on these findings, the Department is amending this certification to include workers leased from Express Personnel working on-site at the Federal Way, Washington location of Weyerhaeuser Company, Corporate Headquarters.

The amended notice applicable to TA-W-73,303 is hereby issued as follows:

All workers of Weyerhaeuser Company, Corporate Headquarters, including on-site leased workers from Volt Services, Adecco, Manpower, and Express Personnel, Federal Way, Washington, who became totally or partially separated from employment on or after January 7, 2009, through June 2, 2012, and all workers in the group threatened with total or partial separation from employment on the date of certification through two years from the date of certification, are eligible to apply for adjustment assistance under Chapter 2 of Title II of the Trade Act of 1974, as amended.

Signed at Washington, DC, this 18th day of November 2010.
Certifying Officer, Office of Trade Adjustment Assistance.

[FR Doc. 2010-30546 Filed 12-6-10; 8:45 am]

BILLING CODE 4510-FN-P